FEDERAL COMMUNICATIONS COMMISSION

[DA 01-517]

Consumer/Disability Telecommunications Advisory Committee

AGENCY: Federal Communications Commission.

ACTION: Notice.

SUMMARY: This document announces the first meeting date, agenda, and membership of the Consumer/Disability Telecommunications Advisory Committee (hereinafter “the Committee”), whose purpose is to make recommendations to the Commission regarding consumer and disability issues within the jurisdiction of the Commission and to facilitate the participation of consumers (including people with disabilities and underserved populations) in proceedings before the Commission.

DATES: The first meeting of the Committee will take place on March 26, 2001, from 9 a.m. to 4:30 p.m.

ADDRESSES: The Committee will meet at the Federal Communications Commission, Room TW-C305, 445 12th Street, SW, Washington, DC 20554.

FOR FURTHER INFORMATION CONTACT: Scott Marshall, Federal Designated Officer, Consumer/Disability Telecommunications Advisory Committee, Consumer Information Bureau, Federal Communications Commission, 445 12th Street, SW, Washington, DC 20554. Telephone 202-418-2809 (voice) or 202-418-0179 (TTY). Email: cdtac@fcc.gov.

SUPPLEMENTARY INFORMATION: By public notice dated February 28, 2001, the Commission announced the first meeting date, meeting agenda, and membership of its Consumer/Disability Telecommunications Advisory Committee. The establishment of the Committee had been announced by Public Notice dated November 30, 2000, 15 FCC Rcd 23798, as published in the Federal Register (65 FR76265, December 6, 2000).

Availability of Copies and Electronic Accessibility

A copy of the February 28 notice is available in alternate formats (Braille, cassette tape, large print or diskette) upon request. It is also posted on the Commission's website at www.fcc.gov/cib/cdtac. The Committee meeting will be broadcast on the Internet in Real Audio/Real Video format with captioning at www.fcc.gov/cib/cdtac. The meeting will be sign language interpreted and realtime transcription will also be available. The meeting site is fully accessible to people with disabilities. Copies of meeting agendas and handout material will also be provided in accessible formats. Meeting minutes and transcripts will be available for public inspection at the FCC headquarters building and will be posted on the Commission's website at www.fcc.gov/cib/cdtac. During its first meeting, members of the Committee will:

• Receive welcome messages from the Chairman and Commissioners;

• Clarify the Committee's roles and responsibilities;

• Establish various subcommittee working groups and confirm membership thereof;

• Define, clarify, and prioritize issues for which each subcommittee working group is responsible; and

• Clarify the next steps for the work of the Committee.

Membership of the Committee and Chairperson

The Commission previously requested nominations for membership in the Committee. See Public Notice, DA 00-2692, 65 FR 76265 (December 6, 2000). The Commission considered all applications for membership filed in response to the Notice and selected the members named below. Because the Committee includes individuals (including individuals with disabilities or their advocacy organizations), industry, trade associations, and consumer groups, the Committee's membership will be impartial and well balanced. Pursuant to Section K of the Committee's Charter, FCC Chairman Michael K. Powell has appointed Shirley L. Rooker, President, Call For Action, as the Committee Chairperson.

Committee Membership

Federal Designated Officer

Scott Marshall

Organizations

AARP

Alliance for Public Technology

American Council of the Blind

AT&T

California Department of Rehabilitation

Call For Action

Cellular Telecommunications & Internet Association

Cingular Wireless, LLC

Communication Service for the Deaf

ConnectBid, LLC

Consumer Action

Ericsson, Inc.

Gallaudet University

Gila River Telecommunications, Inc.

Hewlett-Packard Company

Inclusive Technologies

Information Technology Technical Assistance and Training Center

Microsoft Corporation

Mitsubishi Electric America Foundation

National Association of Broadcasters

National Cable Television Association

National Consumers' League

National Association of State Relay Administration

National Urban League

NCR Corporation

Nokia, Inc.

Qwest Communications International, Inc.

Rainbow/PUSH Coalition and Citizen Educational Fund

San Carlos Apache Tribe

Self Help for Hard of Hearing People

Smithsonian Center for Latino Initiatives

Sprint Corporation

Telecommunications Research & Action Center

Tripod Captioned Films

Wynd Communications Corporation

Individuals

Shelley Nixon

Kathleen O'Reilly

Committee meetings will be open to the public and interested persons may attend the meetings and communicate their views. Members of the public will have an opportunity to address the Committee on issues of interest to them and the Committee. Members of groups or individuals who are not members of the Committee will also have the opportunity to participate in work conducted by subcommittees of the Committee. Notices of future meetings of the Committee will be published in the Federal Register.

Federal Communications Commission.
Karen Peltz Strauss,
Deputy Bureau Chief, Consumer Information Bureau.

[FR Doc. 01-5228 Filed 3-2-01; 8:45 am]

BILLING CODE 6712-01-U